DEPARTMENT OF THE INTERIOR

Bureau of Land Management

[UT-020-08-5410-FR-J260; UTU-82909]

Application for the Conveyance of Federally Owned Mineral Interest

AGENCY: Bureau of Land Management, Interior.

ACTION: Notice of Realty Action.

SUMMARY: The surface owner of the lands described in this notice, aggregating approximately 1,015.49 acres, has filed an application to purchase the Federally owned mineral interests in the lands. Publication of this notice temporarily segregates the mineral interest from appropriation under the public land laws, including the mining laws.

DATES: Interested parties may submit comments regarding this notice to the BLM Salt Lake Field Officer Manager, at the address below. Questions or comments on this notice should be directed to the Salt Lake Field Office as indicated below, and should reference the serial number UTU-82909.

Comments: Before including your address, phone number, e-mail address, or other personal identifying information in your comment, you should be aware that your entire comment—including your personal identifying information—may be made publicly available at any time. If you wish to withhold your name or address from public review or from disclosure under the Freedom of Information Act, you must clearly state this at the beginning of your written comment. While you can ask us in your comment to withhold your personal identifying information from public review, we cannot guarantee that we will be able to do so.

ADDRESSES: Submit all written comments concerning this notice to the Salt Lake Field Office, 2370 South 2300 West, Salt Lake City, UT 84119.

FOR FURTHER INFORMATION CONTACT: David Watson, Realty Specialist, Salt Lake Field Office, (801) 977-4368, David_S_Watson@blm.gov.

SUPPLEMENTARY INFORMATION: The surface owner of the following described lands has filed an application pursuant to Section 209 of the Federal Land Policy and Management Act of 1976 (43 U.S.C. 1719(b)), for the purchase of the Federally owned mineral interest in the lands:

Salt Lake Base and Meridian, Salt Lake County, Utah

T. 4 S., R 3 W.,

Section 11; Lots 7, 8, 16-18, SE¼SE¼;

Section 12; Lots 7, 10, 11, S½SW¼;

Section 13; Lots 2, 3, NW¼, N½SW¼, S½SE¼;

Section 14; Lots 7-12, NE¼NE¼;

Section 24; Lots 5-10.

The BLM will process the pending application in accordance with the regulations in 43 CFR part 2720. The regulations provide for the purchase of the Federally owned mineral interest to consolidate the surface and subsurface mineral ownership in cases where (1) there are no known mineral values, or (2) in those instances where the Federal mineral interest reservation interferes with or precludes appropriate non-mineral development and such development is a more beneficial use of the land than the mineral development.

Upon publication of this notice in the Federal Register and subject to valid and existing rights, the mineral interests owned by the United State in the private lands covered by the application shall be segregated to the extent that they will not be subject to appropriation under the public land laws, including the mining laws. The segregative effect shall terminate upon: (1) Issuance of a patent or deed of such mineral interest; (2) upon final rejection of the mineral conveyance application; or (3) two years from the date of publication of this notice, whichever occurs first.

Dated: October 2, 2008.
Donald R. Banks,
State Director, Acting.

[FR Doc. E8-23968 Filed 10-8-08; 8:45 am]

BILLING CODE 4310-DQ-P